DEPARTMENT OF ENERGY

Federal Energy Regulatory Commission

Notice of Application Accepted for Filing and Soliciting Motions To Intervene, Protests, and Comments

April 5, 2002.

Take notice that the following hydroelectric application has been filed with the Commission and is available for public inspection:

a. Type of Application: Preliminary Permit.

b. Project No.: 12134-000.

c. Date filed: October 12, 2001.

d. Applicant: South Dakota Conservancy District.

e. Name of Project: Dakota Pumped Storage Project.

f. Location: On the Missouri River in Charles Mix and Gregory Counties, South Dakota.

g. Filed Pursuant to: Federal Power Act, 16 USC §§ 791(a)-825®)

h. Applicant Contact: Gregg Greenfield, Chairman, South Dakota Conservancy District, 523 East Capitol Ave., Pierre, South Dakota 57501-3181, (605) 773-4216.

I. FERC Contact: Elizabeth Jones (202) 208-0246.

j. Deadline for filing motions to intervene, protests and comments: 60 days from the issuance date of this notice. This application is being noticed as a result of the Commission's Order Extending Filing Deadline For Notice of Intent issued on April 1, 2002 (99 FERC ¶ 61,009).

k. Competing Application: Project No. 12055-000.

All documents (original and eight copies) should be filed with: Magalie R. Salas, Secretary, Federal Energy Regulatory Commission, 888 First Street, NE., Washington, DC 20426.

Please include the Project Number (12134-000) on any comments, protests, or motions filed.

The Commission's rules of practice and procedure require all interveners filing a document with the Commission to serve a copy of that document on each person in the official service list for the project. Further, if an intervener files comments or documents with the Commission relating to the merits of an issue that may affect the responsibilities of a particular resource agency, they must also serve a copy of the document on that resource agency.

l. Description of Project: The proposed project would use Lake Francis Case created by the U.S. Corps of Engineers' Fort Randall Dam as the lower reservoir and would consist of : (1) A proposed upper reservoir having a maximum surface area of 540-acres and a storage capacity of 24,000 acre-feet; a proposed forebay power intake; a proposed deflector dike extending 3,000 feet from the bankline outward and another 4,000 feet downstream in Lake Frances Case, (2) two proposed power tunnels, each 24-feet in diameter, with the lower, high pressure tunnel 7,665 feet long and the upper, low pressure tunnel 1,250 feet long, (3) a proposed powerhouse containing four reversible turbines with capacities of 300 MW each for a total installed capacity of 1200 MW, (4) proposed minimum of two 345 kV transmission lines, and (5) appurtenant facilities.

The project would have an estimated annual generation of 2.36 GWh.

m. Copies of this filing are on file with the Commission and are available for public inspection. This filing may be viewed on the Commission's web site at http://www.ferc.gov using the “RIMS” link, select “Docket #” and follow the instructions ((202) 208-2222 for assistance). Comments, protests and interventions may be filed electronically via the Internet in lieu of paper. See, 18 CFR 385.2001(a)(1)(iii) and the instructions on the Commission's Web site under the “e-Filing” link.

n. Preliminary Permit—Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

o. Preliminary Permit—Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

p. Notice of Intent—A notice of intent must specify the exact name, business address, and telephone number of the prospective applicant, and must include an unequivocal statement of intent to submit, if such an application may be filed, either a preliminary permit application or a development application (specify which type of application). A notice of intent must be served on the applicant(s) named in this public notice.

q. Proposed Scope of Studies under Permit—A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

r. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

s. Filing and Service of Responsive Documents—Any filings must bear in all capital letters the title “COMMENTS”, “NOTICE OF INTENT TO FILE COMPETING APPLICATION”, “COMPETING APPLICATION”, “PROTEST”, “MOTION TO INTERVENE”, as applicable, and the Project Number of the particular application to which the filing refers. Any of the above-named documents must be filed by providing the original and the number of copies provided by the Commission's regulations to: The Secretary, Federal Energy Regulatory Commission, 888 First Street, NE.,Washington, DC 20426. An additional copy must be sent to Director, Division of Hydropower Administration and Compliance, Federal Energy Regulatory Commission, at the above-mentioned address. A copy of any notice of intent, competing application or motion to intervene must also be served upon each representative of the Applicant specified in the particular application.

t. Agency Comments—Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 02-8920 Filed 4-11-02; 8:45 am]

BILLING CODE 6717-01-P